DEPARTMENT OF AGRICULTURE

Forest Service

Little East Creek Fuels Reduction Environmental Impact Statement

AGENCY: Forest Service, USDA.

ACTION: Notice of intent to prepare an Environmental Impact Statement.

SUMMARY: The Department of Agriculture, Forest Service, will prepare an Environmental Impact Statement (EIS) to reduce the fire hazard and restore damaged components of the ecosystem within the Little East Creek Area. The Record of Decision will disclose how the Forest Service has decided to treat approximately 3,725 acres of blowdown fuels. The proposed action is to treat an estimated 2,122 acres by means such as commercial timber sales, mechanical piling and burning, prescribed fire, and by hand treatment and provide access to non-federally owned lands within the project boundaries. A range of alternatives responsive to significant issues will be developed, including a no-action alternative. The proposed project is located on the LaCroix Ranger District, Cook MN, Superior National Forest. In addition, the LaCroix Ranger District may be requesting the project be considered an emergency under 36 CFR 215.10(d)(1).

DATES: Comments concerning the scope of this project should be received by March 17, 2000.

ADDRESSES: Please send written comments to: LaCroix Ranger District, Superior National Forest, Attn: Little East Creek Fuels Reduction EIS, 320 N HWY 53, Cook, MN 55723.

FOR FURTHER INFORMATION CONTACT: Constance Chaney, District Ranger, or John Galazen, Team Leader, LaCrox Ranger District, Superior National Forest, 320 N HWY 53 Cook, MN 55723, telephone (218) 666-002.

SUPPLEMENTARY INFORMATION: Public participation will be an integral component of the study process and will be especially important at several point during the analysis. The first is during the scoping process. The Forest Service will be seeking information, comments, and assistance from Federal, State and local agencies, individuals, and organizations that may be interested in, or affected by the proposed activities. The scoping process will include: (1) identification of potential issues,(2) identification of issues to be analyzed in depth, and (3) elimination of insignificant issues or those which have been covered by a previous environmental review. Written scoping comments will be solicited through a scoping package that will be sent to the project mailing list and to the local newspaper. For the Forest Service to best use the scoping input. Comments should be received by February 23, 2000. Issues identified for analysis in the EIS include the potential effects of the project on and the relationship of the project to: fuel hazard reduction, riparian areas and Shipstead Newton Nolan areas, reforestation, temporary roads, inventoried candidate special management complexes, roadless areas, and others.

Based on the results of scoping and the resource capabilities within the Project Area, alternatives, including a non-action alternative, will be developed for the Draft EIS. The Draft EIS is projected to be filed within the Environmental Protection Agency (EPA) in July 2000. The Final EIS is anticipated in October 2000.

The commend period on the draft EIS will be a minimum of 45 days from the date the EPA publishes the Notice of Availability in the Federal Register.

The Forest Service believes, at this early stage, it is important to give reviewers notice of several court rulings related to public participation in the environmental review process. First, reviewers of Draft EISa must structure their participation in the environmental review of the proposal, so that it is meaningful and alerts an agency to the reviewer's position and contentions (Vermont Yankee Nuclear Power Corp. v. HRDC, 435 U.S. 519, 553, (1978)). Environmnental objections that could have been raised at the Draft EIS stage may be waived or dismissed by the courts (City of Angoon v. Hodel, 803 F.2nd 1016, 1022 (9th Cir. 1986) and Wisconsin Heritages, Inc. v. Harris, 490 F. Supp. 1334, 1338 (E.D. Wis. 1980)). Because of these court rulings, it is very important that those interested in this Proposed Action, participate by the close of the 45-day comment period, so that substantive comments and objections are made available to the Forest Service at a time when they can be meaningfully considered and responded to in the Final EIS.

To assist the Forest Service in indentifying and considering issues and concerns of the Proposed Act, comments during scoping and on the Draft EIS should be a specific as possible and refer to specific pages or chapter. Comments may address the adequacy of the Draft EIS or the merits of the alternatives formulated and discussed. In addressing these points reviewers may wish to refer to the Council on Environmental Quality Regulations for implementing the procedural provisions of the National Environmental Policy Act in 40 CFR 1503.3. Comments reviewed in response to this solicitation, including names and addresses of those who comment, will be considered part of the public record on the Proposed Action and will be available for public inspection. Comments submitted anonymously will be accepted and considered. Pursuant to 7 CFR 1.27(d), any person may request the agency to withthold a submission, from the public record, by showing how the Freedom of Information Act (FOIA) permits such confidentiality. Requesters should be aware that under FOIA, confidentiality may be granted in only very limited circumstances, such as to protect trade secrets. The Forest Service will inform the requester of the agency's decision regarding the request for confidentiality. If the request is denied, the agency will return the submission and notify the requester that the comments may be resubmitted with or without name and address within seven days.

Permits/Authorizations: The proposed action may include prescribed burning and harvesting on Ecological Landtype 18. An amendment to the Superior National Forest Land and Resource Management Plan would be needed for such actions. James W. Sanders, Forest Supervisor, Superior National Forest, would be responsible official for the plan amendment.

Responsible Official: Constance Chaney, LaCroix District Ranger, Superior National Forest, is the responsible official. In making the decision, the responsible official will consider the comments, responses, disclosure of environmental consequences, and applicable laws, regulations, and policies. The responsible official will state the rationale for the chosen alternative in the Record of Decision.

Dated: January 11, 2000.
Constance Chaney,
District Ranger.

[FR Doc. 00-3841 Filed 2-16;-00; 8:45 am]

BILLING CODE 3410-11-M